DEPARTMENT OF TRANSPORTATION

Federal Highway Administration

Environmental Impact Statement: Riverside and Orange Counties, CA

AGENCY: Federal Highway Administration (FHWA), DOT.

ACTION: Notice of Intent.

SUMMARY: The FHWA, on behalf of the California Department of Transportation (Caltrans), is issuing this notice to advise the public that an Environmental Impact Statement (EIS) will be prepared for the proposed State Route 91 (SR-91) Corridor Improvement Project, in the Counties of Orange and Riverside, California.

FOR FURTHER INFORMATION CONTACT: Russell Williams, Office Chief, California Department of Transportation, Division of Environmental Planning, 464 West 4th Street, 11th Floor, San Bernardino, CA 92401; or call (909) 383-1554.

SUPPLEMENTARY INFORMATION: Effective July 1, 2007, the Federal Highway Administration (FHWA) assigned, and Caltrans assumed environmental responsibilities for this project pursuant to 23 U.S.C. 327. Caltrans will prepare an EIS on a proposal to increase capacity within the project segments of the SR-91 (between the State Route 241 and Pierce Street) and the Interstate 15 (between Cajalco Road and Hidden Valley Parkway), in the Counties of Orange and Riverside, California.

The proposed improvements is considered necessary to facilitate movement of people and goods between the Counties of Orange and Riverside, by improving travel conditions for work, recreation, school, commerce, as well as all other trip purposes. Alternatives under consideration include (1) Taking no action; (2) High Occupancy Vehicle (HOV) Lanes; (3) High Occupancy Toll (HOT) Lanes.

Letters describing the proposed action and soliciting comments will be sent to appropriate Federal, State and local agencies, and to private organizations and citizens who have previously expressed or are known to have interest in this proposal. In addition, interested Tribal governments will be involved as determined by the Native American Heritage Commission consultation. Public information meetings will be held to discuss the alternatives and the potential impacts of the proposed action. Public notice will be given of the time and place of the public meetings as well as the public hearings. The draft EIS will be available for public and agency review and comment prior to the first public meeting.

To ensure that the full range of issues related to this proposed action is addressed and that all significant concerns are identified, comments and suggestions are invited from all interested parties. Comments or questions concerning this proposed action and the EIS should be directed to Caltrans' contact at the address provided above.

(Catalog of Federal Domestic Assistance Program Number 20.205, Highway Planning and Construction. The regulations implementing Executive Order 12372 regarding intergovernmental consultation on Federal programs and activities apply to this program.)

Issued on: June 26, 2008.
Nancy Bobb,
Director, State Programs, Federal Highway Administration, Sacramento, California.

[FR Doc. E8-15111 Filed 7-2-08; 8:45 am]

BILLING CODE 4910-22-P